INTERNATIONAL TRADE COMMISSION

[Investigation Nos. 701-TA-442 and 731-TA-1095-1096 (Second Review)]

Lined Paper School Supplies From China and India; Determinations

On the basis of the record ¹ developed in the subject five-year reviews, the United States International Trade Commission (“Commission”) determines, pursuant to the Tariff Act of 1930 (“the Act”), that revocation of the countervailing duty order on lined paper school supplies from India and the antidumping duty orders on lined paper school supplies from China and India would be likely to lead to continuation or recurrence of material injury to an industry in the United States within a reasonably foreseeable time.

¹ The record is defined in sec. 207.2(f) of the Commission's Rules of Practice and Procedure (19 CFR 207.2(f)).

Background

The Commission, pursuant to section 751(c) of the Act (19 U.S.C. 1675(c)), instituted these reviews on July 3, 2017 (82 FR 30902) and determined on October 6, 2017 that it would conduct expedited reviews (82 FR 49659, October 26, 2017).

The Commission made these determinations pursuant to section 751(c) of the Act (19 U.S.C. 1675(c)). It completed and filed its determinations in these reviews on February 2, 2018. The views of the Commission are contained in USITC Publication 4758 (February 2018), entitled Lined Paper School Supplies from China and India: Investigation Nos. 701-TA-442 and 731-TA-1095-1096 (Second Review).

Issued: February 2, 2018.
By order of the Commission.
Lisa R. Barton,
Secretary to the Commission.

[FR Doc. 2018-02479 Filed 2-7-18; 8:45 am]

BILLING CODE 7020-02-P